DEPARTMENT OF THE INTERIOR

National Park Service

Notice of Intent to Repatriate Cultural Items: U.S. Department of Agriculture, Forest Service, Coronado National Forest, Tucson, AZ and Arizona State Museum, University of Arizona, Tucson, AZ

AGENCY: National Park Service, Interior.

ACTION: Notice.

Notice is here given in accordance with the Native American Graves Protection and Repatriation Act (NAGPRA), 25 U.S.C. 3005, of the intent to repatriate cultural items in the possession of the U.S. Department of Agriculture, Forest Service, Coronado National Forest, Tucson, AZ that meet the definition of “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 58 cultural items are part of an archeological collection known as the Pinaleno Cotton Cache. The 58 cultural items are 2 caches of raw, native cotton; 3 ceramic jars; 3 ceramic bowls; 2 coiled basketry bowls; 1 coiled basketry pot stand; and 47 botanical and faunal items.

In 1982, the Pinaleno Cotton Cache was found near Safford, AZ, by local residents on lands administered by the Forest Service. In 1983, the existence of the cache was reported to the Forest Service. Officials of the U.S. Department of Agriculture, Forest Service removed cultural items in the cache for curation at the Arizona State Museum, University of Arizona, Tucson, AZ. Subsequently, U.S. Department of Agriculture, Forest Service law enforcement officers recovered the two coiled baskets from individuals who had removed the items illegally during the interval between the discovery of the cache and its removal by the Forest Service.

The ceramic vessels in the cache have characteristics associated with both the Hohokam and Mogollon cultures in the 10th through the 12th century. The coiled basketry pieces were constructed with a method (two-rod-and-bundle) shared by many people throughout the prehistoric Southwestern United States. In addition, basket fragments with a similar construction technique were found at Ventana Cave on the Tohono O'odham reservation. Studies of the cultural items in the Pinaleno Cotton Cache have established that the site was a shrine that was visited at intervals from the 7th through the 13th century, and that the items left at the site were ceremonial offerings. In a 1995 study, the U.S. Department of Agriculture, Forest Service determined that Hohokam cultural materials of the 7th through the 13th century from the Safford area in Arizona are culturally affiliated with the Tohono O'odham Nation of Arizona. During consultation, cultural and religious leaders of the Tohono O'odham Nation of Arizona indicated that the cultural items in the Pinaleno Cotton Cache were of Tohono O'odham ancestry. The tribal representatives also indicated that the cultural items were objects of cultural patrimony associated with the ancestral Tohono O'odham culture and had ongoing historical, traditional or cultural importance and was property owned by the tribe.

Officials of the U.S. Department of Agriculture, Forest Service have determined that, pursuant to 25 U.S.C. 3001 (3)(D), the 58 cultural items described above have ongoing historical, traditional or cultural importance central to the Native American group or culture itself, rather than property owned by an individual. Officials of the U.S. Department of Agriculture, Forest Service also have determined that, pursuant to 25 U.S.C. 3001 (2), there is a relationship of shared group identity that can be reasonably traced between the objects of cultural patrimony and the Tohono O'odham Nation of Arizona.

Representatives of any other Indian tribe that believes itself to be culturally affiliated with the objects of cultural patrimony should contact Dr. Frank E. Wozniak, NAGPRA Coordinator, Southwestern Region, USDA Forest Service, 333 Broadway Blvd., SE, Albuquerque, NM 87102, telephone (505) 842-3238, before December 20, 2007. Repatriation of the objects of cultural patrimony to the Tohono O'odham Nation of Arizona may proceed after that date if no additional claimants come forward.

The Coronado National Forest is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; and Tohono O'odham Nation of Arizona that this notice has been published.

Dated: October 25, 2007.
Sherry Hutt,
Manager, National NAGPRA Program.

[FR Doc. E7-22671 Filed 11-19-07; 8:45 am]

BILLING CODE 4312-50-S